DEPARTMENT OF HEALTH AND HUMAN SERVICES

Centers for Disease Control and Prevention

HIV Prevention With National Medical and Nursing Associations

Announcement Type: New.

Funding Opportunity Number: 04152.

Catalog of Federal Domestic Assistance Number: 93.118.

Key Dates: Letter of Intent Deadline: June 18, 2004.

Application Deadline: July 19, 2004.

Executive Summary: The Centers for Disease Control and Prevention (CDC) announces the availability of fiscal year (FY) 2004 funds for a cooperative agreement program with national medical and nursing associations or societies to promote and assist with the implementation of CDC's Initiative Advancing HIV Prevention: New Strategies for a Changing Epidemic. The initiative aims to reduce barriers to early diagnosis of HIV infection and increase access to quality medical care, treatment, and ongoing prevention services. It emphasizes the use of proven public health approaches to reducing the incidence and spread of disease. As with other sexually transmitted diseases (STDs) or any other public health problem, principles commonly applied to prevent disease and its spread will be used, including appropriate routine screening, identification of new cases, partner notification, and increased availability of sustained treatment and prevention services for those infected.

The initiative consists of four key strategies:

• Make HIV testing a routine part of medical care.

• Implement new models for diagnosing HIV infections outside medical settings.

• Prevent new infections by working with persons diagnosed with HIV and their partners.

• Further decrease perinatal HIV transmission.

I. Funding Opportunity Description

Authority: This program is authorized under sections 301(a) and 317(k)(2) of the Public Health Service Act, (42 U.S.C. 241(a) and 274b(k)(2)), as amended.

Purpose: The purpose of this program is to: (1) Develop and disseminate provider educational and training materials to members; (2) promote HIV testing as part of routine medical care; (3) promote the incorporation of HIV prevention into the medical care of HIV-infected persons; (4) foster the exchange of information, ideas and experiences of health care providers on what works for preventing HIV; and (5) stimulate involvement and participation of regional, state and local chapters. This program addresses the “Healthy People 2010” focus area of HIV.

Measurable outcomes of the program will be in alignment with one or more of the following performance goals for the National Center for HIV, STD and TB Prevention (NCHSTP): (1) Decrease the number of persons at high risk for acquiring or transmitting HIV infection; (2) increase the proportion of HIV-infected persons who know they are infected; (3) increase the proportion of HIV-infected persons who are linked to appropriate prevention, care, and treatment services; (4) strengthen the capacity nationwide to monitor the epidemic, develop and implement effective HIV prevention interventions and evaluate prevention programs.

Activities: Awardee activities for this program are as follows:

a. Evaluate members for (1) knowledge, attitudes and perceptions regarding the role of clinicians in HIV prevention; (2) adherence to practice standards and federal or state clinical guidelines for the prevention and treatment of HIV/AIDS and other STDs; (3) knowledge, attitudes and barriers to the incorporation of the CDC/HRSA/NIH/IDSA Recommendations to Incorporate HIV Prevention into the Medical Care of Persons Living with HIV, into their clinical practice.

b. Assess capacity of regional, State and local chapters to support the dissemination of educational and training materials.

c. Develop and disseminate provider training and educational materials to promote HIV testing as part of routine medical care; promote the incorporation of HIV prevention into the medical care of persons living with HIV; and develop educational materials that providers can use with their patients. Dissemination can be done directly to members or through regional, State and local chapters.

d. Sponsor a variety of forums for presentation of information on HIV testing as part of routine medical care; use of rapid testing in medical settings, including acute care clinics and emergency departments; and incorporation of HIV prevention into the medical care of HIV-infected persons.

e. Conduct an evaluation of the intervention to measure changes in attitudes, clinical behaviors and practices.

f. Collaborate with other funded national organizations and the Division of HIV/AIDS Prevention, CDC, in the development of training and educational materials for health care providers and consumers.

g. Participate in two grantee meetings per year as defined by the project officer.

In a cooperative agreement, CDC staff is substantially involved in the program activities, above and beyond routine grant monitoring.

CDC Activities for this program are as follows:

a. Facilitate and assist in the development of training materials and curricula, administrative tools and policy manuals.

b. Participate in the evaluation design.

c. Provide information and technical expertise in the area of HIV prevention, including prevention for persons living with HIV.

d. Work with each awardee to facilitate and support collaboration among funded national organizations as well as CDC-funded HIV prevention and surveillance programs.

e. Provide a synthesis of known best practices and interventions regarding HIV risk assessment and testing, HIV prevention in medical settings, rapid HIV testing, and prevention for HIV-infected persons.

f. Collaborate in the development of forums that focus on HIV testing as part of routine medical care; use of rapid testing in medical settings, including acute care clinics and emergency departments; and incorporating HIV prevention into the medical care of HIV-infected persons.

g. Collaborate with awardees on presentations and publications of evaluation findings.

h. Conduct site visits to monitor progress of the programs.

II. Award Information

Type of Award: Cooperative agreement.

CDC involvement in this program is listed in the Activities Section above.

Fiscal Year Funds: 2004.

Approximate Total Funding: $500,000.

Approximate Number of Awards: Three-Four.

Approximate Average Award: $100,000. (This amount is for the first 12-month budget period, and includes both direct and indirect costs.)

Floor of Award Range: $75,000.

Ceiling of Award Range: $175,000.

Anticipated Award Date: September 1, 2004.

Budget Period Length: 12 months.

Project Period Length: Two years.

Throughout the project period, CDC's commitment to continuation of awards will be conditioned on the availability of funds, evidence of satisfactory progress by the recipient (as documented in required reports), and the determination that continued funding is in the best interest of the Federal government.

III. Eligibility Information

III.1. Eligible applicants

• Applications may be submitted by public and private nonprofit organizations.

This program is limited to national professional medical and nursing associations or societies that have the capability to reach a broad constituency to assure the dissemination of consistent HIV prevention messages nationwide. These associations or societies must represent practicing clinicians.

Funding preference will be given to national organizations with prior experience in developing and disseminating provider educational and training materials to promote prevention services.

III.2. Cost Sharing or Matching

Matching funds are not required for this program.

III.3. Other

If you request a funding amount greater than the ceiling of the award range, your application will be reviewed and, if awarded, only partially funded.

Note: Title 2 of the United States Code, section 1611, states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Letter of Intent (LOI): Your LOI must be written in the following format:

• Maximum number of pages: one.

• Font size: 12-point unreduced.

• Single spaced.

• Paper size: 8.5 by 11 inches.

• Page margin size: One inch.

• Printed only on one side of page.

• Written in plain language, avoid jargon.

Your LOI must contain the following information:

• A summary of the project.

Application: You must submit a project narrative with your application forms. The narrative must be submitted in the following format:

• Maximum number of pages: 20.

If your narrative exceeds the page limit, only the first pages, which are within the page limit, will be reviewed.

• Font size: 12 point unreduced.

• Paper size: 8.5 by 11 inches.

• Page margin size: One inch.

• Printed only on one side of page.

• Held together only by rubber bands or metal clips; not bound in any other way.

Your narrative should address activities to be conducted over the entire project period, and must include the following items in the order listed:

1. Abstract (not to exceed one page): An executive summary of your program covered under this announcement.

2. Program Plan (Not to exceed 19 pages): In developing the application under this announcement, please review the recipient activities and, in particular, evaluation criteria and respond concisely and completely. The program plan should address activities to be conducted over the entire two-year budget period. Include proposed methods and staffing plan for the project.

3. Budget: Submit an itemized budget for the entire two-year project period, and supporting justification that is consistent with your proposed program plan. Include travel costs for not more than two staff members to attend two 2-day meetings in Atlanta each year.

Additional information may be included in the application appendices. The appendices will not be counted toward the narrative page limit. This additional information can include:

• Organizational chart, resumes for proposed staff, a letter of support from the board of directors, and letters of support from other project partners or collaborators;

• Samples of previous projects related to this proposal.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter. Additional requirements that may require you to submit additional documentation with your application are listed in section “VI.2. Administrative and National Policy Requirements.”

IV.3. Submission Dates and Times

LOI Deadline Date: June 18, 2004.

CDC requests that you send a LOI if you intend to apply for this program. Although the LOI is not required, not binding, and does not enter into the review of your subsequent application, the LOI will be used to gauge the level of interest in this program, and to allow CDC to plan the application review.

Application Deadline Date: July 19, 2004.

Explanation of Deadlines: Applications must be received in the CDC Procurement and Grants Office by 4 p.m. eastern time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Restrictions, which must be taken into account while writing your budget, are as follows:

• Funds from this cooperative agreement should not be used for major purchase of equipment or construction. Requests for equipment such as computers and Liquid Crystal Display (LCD) Projectors for training require detailed justification.

If you are requesting indirect costs in your budget, you must include a copy of your indirect cost rate agreement. If your indirect cost rate is a provisional rate, the agreement should be less than 12 months of age.

Awards will not allow reimbursement of pre-award costs.

Guidance for completing your budget can be found on the CDC Web site, at the following Internet address: http://www.cdc.gov/od/pgo/funding/budgetguide.htm.

IV.6. Other Submission Requirements

LOI Submission Address: Submit your LOI by express mail, delivery service, fax, or e-mail to: Raul A. Romaguera, DMD, MPH, Associate Director for Prevention in Care, Division of HIV/AIDS Prevention, CDC, 1600 Clifton Road, NE.—MS D-21, Atlanta, GA 30333. Telephone: (404) 639-2004, fax (404) 639-0897, e-mail: RRomaguera@cdc.gov.

Application Submission Address: Submit the original and two hard copies of your application by mail or express delivery service to: Technical Information Management-PA# 04152, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation. Your application will be evaluated against the following criteria:

1. Scope of Plan (30 points): The plan delineates your steps to implement and evaluate your program. It must be written for your entire two-year project period and include a succinct statement of the intent, desired outcome(s) of the project and clearly stated and measurable outcome objectives to be achieved by the project. These objectives must be quantifiable in terms of outputs and time frame for achievement. The statement of intent and outcome objectives should address the purpose of the cooperative agreement, which is to: (1) Develop and disseminate provider educational and training materials to members; (2) promote HIV testing as part of routine medical care; (3) promote the incorporation of HIV prevention into the medical care of HIV-infected persons; (4) foster the exchange of information, ideas and experiences of health care providers on what works for preventing HIV; (5) stimulate involvement and participation of regional, state and local chapters.

2. Methods (30 points): Clear statement of approach and activities required to achieve the stated HIV prevention outcome objectives. The relationship between activities and objectives must be explicitly demonstrated. Description of activities must include a delineation of resources required, identification of the personnel who will perform the work and a management plan with description of the systems and procedures which will be used to manage the progress, budget and operations of the project.

3. Personnel and Staffing (25 points): The qualifications and experience of key personnel, other professional staff and support staff available to carry out HIV prevention activities.

4. Evaluation (15 points): Detailed plans for evaluating the degree to which the program achieves the purpose of the cooperative agreement (as listed in the purpose section, and above in the description of the scope of plan). Measures must be objective and quantitative and must measure the intended outcome.

5. Budget (reviewed, but not scored): There is an upper limit of $175,000. An application submitted with a budget over $175,000, will be reviewed and, if awarded, only partially funded. The budget will be reviewed to determine the extent to which it is reasonable, clearly justified, consistent with the intended use of the funds, and allowable. All budget categories should be itemized.

V.2. Review and Selection Process

Applications will be reviewed for completeness by the Procurement and Grants Office (PGO) staff and for responsiveness by the NCHSTP. Incomplete applications and applications that are non-responsive to the eligibility criteria will not advance through the review process. Applicants will be notified that their application did not meet submission requirements.

An objective review panel will evaluate complete and responsive applications according to the criteria listed in the “V.1. Criteria” section above.

In addition, the following factors may affect the funding decision:

This program is limited to national professional medical and nursing associations or societies that have the capability to reach a broad constituency to assure the dissemination of consistent HIV prevention messages nationwide. These associations or societies must represent practicing clinicians.

Funding preference will be given to national organizations with prior experience in developing and disseminating provider educational and training materials to promote prevention services.

V.3. Anticipated Announcement and Award Dates

September 1, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR part 74 and part 92

For more information on the Code of Federal Regulations, see the National Archives and Records Administration at the following Internet address: http://www.access.gpo.gov/nara/cfr/cfr-table-search.html.

The following additional requirements apply to this project:

• AR-4 HIV/AIDS Confidentiality Provisions.

• AR-5 HIV Program Review Panel Requirements.

• AR-9 Paperwork Reduction Act Requirements.

• AR-10 Smoke-Free Workplace Requirements.

• AR-11 Healthy People 2010.

• AR-12 Lobbying Restrictions.

• AR-14 Accounting System Requirements.

• AR-15 Proof of Non-Profit Status.

• AR-16 Security Clearance Requirement.

• AR-20 Conference Support.

• AR-24 Health Insurance Portability and Accountability Act Requirements.

• AR-25 Release and Sharing of Data.

Additional information on these requirements can be found on the CDC Web site at the following Internet address: http://www.cdc.gov/od/pgo/funding/ARs.htm.

VI.3. Reporting Requirements

You must provide CDC with an original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Budget.

e. Additional Requested Information.

f. Measures of Effectiveness.

2. Financial status report and annual progress report, no more than 90 days after the end of the budget period.

3. Final financial and performance reports, no more than 90 days after the end of the project period.

These reports must be mailed to the Grants Management or Contract Specialist listed in the “Agency Contacts” section of this announcement.

VII. Agency Contacts

For general questions about this announcement, contact: Technical Information Management Section, CDC Procurement and Grants Office, 2920 Brandywine Road, Atlanta, GA 30341. Telephone: 770-488-2700.

For program technical assistance, contact: Raul A. Romaguera, DMD, MPH, Associate Director for Prevention in Care, Division of HIV/AIDS Prevention, CDC, 1600 Clifton Road, NE.—MS D-21, Atlanta, GA 30333. Telephone: 404-639-2004, fax: 404-639-0897, e-mail: RRomaguera@cdc.gov.

For financial, grants management, or budget assistance, contact: Kang Lee, Grants Management Specialist, CDC Procurement and Grants Office, 2920 Brandywine Road, Atlanta, GA 30341. Telephone: 770-488-2733, e-mail: kil8@cdc.gov.

VIII. Other Information

Additional information regarding Advancing HIV Prevention: New Strategies for a Changing Epidemic is available at the following Internet address Web site: http://www.cdc.gov/nchstp/od/nchstp.html.

Dated: May 27, 2004.
William P. Nichols,
Acting Director, Procurement and Grants Office, Centers for Disease Control and Prevention.

[FR Doc. 04-12569 Filed 6-2-04; 8:45 am]

BILLING CODE 4163-18-P